DEPARTMENT OF STATE

[Public Notice 6134]

Advancing Democracy Around the World

AGENCY: International Information Programs, State Department.

ACTION: Request for Submissions.

SUMMARY: The State Department's Bureaus of International Information Programs (IIP) and Democracy Human Rights and Labor (DRL) invite U.S.-based civil society and private-sector groups and American citizens engaged in democracy promotion abroad to partner with us on innovative programs that develop Internet-based multi-media materials for non-U.S. audiences relevant to democracy.

ADDRESSES: Interested parties should respond to Outreach Coordinator Lori Brutten, U.S. Department of State, Bureau of International Information Programs, 301 4th St. SW., Room 849, Washington, DC 20547 or by e-mail at America_gov@state.gov no later than March 28, 2008.

FOR FURTHER INFORMATION, CONTACT: Lori Brutten, (202/453-8777) at the above address.

SUPPLEMENTARY INFORMATION: This is the first of a series of Federal Register notices by IIP on specific America.gov thematic program areas. As part of America.gov, the Department's premier Web site for engaging with foreign audiences, IIP in partnership with DRL developed a “Democracy Around the World” page, to engage the global community in a substantive discussion about the principles, implementation and benefits of democracy (including rule of law, and participation and dissent). The IIP-DRL partnership will also help ensure the State Department meets the “Advancing Democratic Values Act's” (Pub. L. 110-53, Section 2132) requirements for enhancing its Internet presence on global democracy and human rights (e.g., streaming video and audio and other media regarding democratic principles, practices and values and the promotion of strengthening democracy).

IIP and DRL invite U.S.-based civil society and private-sector groups and American citizens engaged in democracy promotion abroad to partner with us with the goal of enhancing the site's democracy content by providing Internet-based innovative programs and multimedia materials for non-U.S. audiences. Programmatic opportunities for cooperation could include:

• Broadening existing online youth dialogues;

• Featuring voices of democratic courage, award recipients or themes raised in annual reports;

• Convening online roundtable discussions among international experts/leaders;

• Providing access to alumni of training programs, partnerships or exchanges for webchats, blogs or other outreach efforts; and

• Highlighting the results of partnerships and/or other democracy-related programs.

Using the following format, provide a written commentary, limited to 1,000 words, on how your cooperation could help us implement the goals and opportunities delineated above. In your commentary include the (1) Name of Organization; (2) Point of Contact (Name, Title, Address, Phone, E-mail, and/or Fax). Please include any mission goals and international partnerships that would enhance your participation with IIP and DRL. The Department will evaluate submissions based on, but not limited to, the following criteria: Suggested areas of cooperation; Reputation; International connections/networks and; Fiscal responsibility.

In early 2008, the U.S. Department of State's Bureau of International Information Programs (IIP) launched “America.gov,” a new interactive Web site for international audiences that offers the latest in multimedia, video, forum discussions, polls, articles, etc. The site (http://www.america.gov) highlights the people and institutions that make America a force for progress, engages international audiences in a dialogue on important issues, and explains the core values that underlie and shape U.S. policies.

America.gov has the design and interactive features expected by younger Web-savvy users, and the substantive material that attracts traditional opinion leaders. The site is organized into multilayered packages that are visually engaging and easy to navigate. Topics include: Foreign Policy, U.S. Politics, American Life, Democracy, Science and Health. Language versions of America.gov will be developed during 2008 in Arabic, Chinese, French, Persian, Russian and Spanish.

Dated: March 10, 2008.
Jeremy Curtin,
Coordinator, International Information Programs, Department of State.

[FR Doc. E8-5187 Filed 3-13-08; 8:45 am]

BILLING CODE 4710-45-P